DEPARTMENT OF COMMERCE

International Trade Administration

[C-357-815]

Notice of Correction To the Notice of Intent To Rescind Countervailing Duty Administrative Review: Certain Hot-Rolled Carbon Steel Flat Products From Argentina

AGENCY: Import Administration, International Trade Administration, Department of Commerce.

ACTION: Notice of correction to notice of intent to rescind countervailing duty administrative review.

SUMMARY: On May 16, 2003, the Department of Commerce (the Department) issued a notice of intent to rescind the countervailing duty administrative review on certain hot-rolled carbon steel flat products from Argentina (hot-rolled products), covering the period January 1, 2001 through December 31, 2001, and one manufacturer/exporter of the subject merchandise, Siderar Sociedad Anomina Industrial & Commercial (Siderar). See Notice of Intent to Rescind Countervailing Duty Administrative Review: Certain Hot-Rolled Carbon Steel Flat Products from Argentina, 68 FR 26572 (May 16, 2003).

EFFECTIVE DATE: May 28, 2003.

FOR FURTHER INFORMATION CONTACT: Stephanie Moore or Cindy Robinson, AD/CVD Enforcement, Office 6, Group II, Import Administration, International Trade Administration, U.S. Department of Commerce, 14th Street and Constitution Avenue, NW., Washington, DC 20230; telephone (202) 482-3692 or (202) 482-3797, respectively.

SUPPLEMENTARY INFORMATION: The Department inadvertently omitted to indicate that it was issuing a Notice of Preliminary Results and Intent to Rescind Countervailing Duty Administrative Review (CVD) when it issued the Notice of Intent to Rescind Countervailing Duty Administrative Review on Certain Hot-Rolled Carbon Steel Flat Products from Argentina. Therefore, this notice of correction serves as an amendment and notification of the issuance of the preliminary results and intent to rescind the CVD review. The Department also omitted the following paragraph. This paragraph is hereby incorporated into the preliminary results and notice of intent to rescind.

Public Comment

Pursuant to 19 CFR 351.309, interested parties may submit written comments in response to the notice of intent to rescind the countervailing duty administrative review on certain hot-rolled carbon steel flat products from Argentina. Case briefs must be submitted within 30 days after the date of publication of this notice, and rebuttal briefs, limited to arguments raised in case briefs, must be submitted no later than five days after the time limit for filing case briefs. Parties who submit argument in this proceeding are requested to submit with the argument; (1) A statement of the issues, and (2) a brief summary of the argument. Case and rebuttal briefs must be served on interested parties in accordance with 19 CFR 351.303(f). Also, pursuant to 19 CFR 351.310, within 30 days of the date of publication of this notice, interested parties may request a public hearing on arguments to be raised in the case and rebuttal briefs. Unless the Secretary specifies otherwise, the hearing, if requested, will be held two days after the date for submission of rebuttal briefs. The Department will publish the final results on the rescission of the countervailing duty administrative review, including the results of its analysis of issues raised in any case or rebuttal brief or at a hearing.

This notice is in accordance with section 751(a)(1) of the Tariff Act of 1930, as amended, and §§ 351.213(d) and 351.309(b) of the Department's regulations.

Dated: May 20, 2003.
Holly A. Kuga,
Acting Deputy Assistant Secretary for Import Administration.

[FR Doc. 03-13265 Filed 5-27-03; 8:45 am]

BILLING CODE 3510-DS-M